DEPARTMENT OF THE INTERIOR

Bureau of Land Management

[WY-090-1310-DB]

Notice of Intent To Prepare an Environmental Impact Statement for the Moxa Arch Area Infill Gas Development Project, Lincoln, Sweetwater and Uinta Counties, WY

AGENCY: Bureau of Land Management, Interior.

ACTION: Notice of Intent (NOI) to prepare an Environmental Impact Statement (EIS) and to conduct scoping for the Moxa Arch Area Infill Gas Development Project (MAIP), Lincoln, Sweetwater, and Uinta Counties, Wyoming.

SUMMARY: Under Section 102(2)(C) of the National Environmental Policy Act of 1969, as amended (NEPA), the Bureau of Land Management (BLM), Kemmerer Field Office, announces its intent to prepare an EIS on the potential impacts of a proposed natural gas development project consisting primarily of conventional gas well development, in the Moxa Arch area, Wyoming. The proposed additional wells would fill in or “infill” among existing wells drilled and developed under the Expanded Moxa Arch Area Natural Gas Development Project EIS and Record of Decision (ROD) (1997).

Drilling is proposed to occur over a 10-year period and the life-of-project is anticipated to be 40 years. The project area is located west of Green River, east of Lyman and Opal, and south of the Fontenelle Reservoir.

DATES: This notice initiates the public scoping process. The BLM can best use public input if comments and resources information are submitted within 30 days of the publication of this notice. To provide the public with an opportunity to review the proposal and project information, the BLM will host meetings in Evanston, Rock Springs, and Kemmerer, Wyoming, during fall 2005. The BLM will notify the public of the meetings' dates, times, and locations at least 15 days prior to the event. Announcement will be made by news release to the media, individual mailings, and posting on the BLM Web site listed below (if available).

ADDRESSES: Please send written comments or resource information to the Bureau of Land Management, Kemmerer Field Office, Michele Easley, Project Manager, 312 Highway 189 North, Kemmerer, WY 83101. Electronic mail may be sent to: kemmerer_wymail@blm.gov. Please include “ATTN: Moxa Arch Infill” in the subject line. Additionally, the scoping notice will be posted on the Wyoming BLM NEPA Web page (if available) at http://www.wy.blm.gov/nepa/nepadocs.htm. If you are interested in viewing material referenced or posted on the BLM Web site, please contact the Kemmerer Field Office as to its availability.

Your input is important and will be considered in the environmental analysis process. BLM will keep respondents informed of decisions resulting from this analysis. Please note that public comments and information submitted regarding this project, including respondents' names, street addresses, and e-mail addresses, will be available for public review and disclosure at the above address during regular business hours (7:45 a.m. to 4:30 p.m.) Monday through Friday, except holidays. Individual respondents may request confidentiality. If you wish to withhold any or all personal information from public review or from disclosure under the Freedom of Information Act, you must state this plainly at the beginning of your written comment. Such requests will be honored to the extent allowed by the law. All submissions from organizations or businesses, and from individuals identifying themselves as representatives or officials of organizations or businesses, will be made available for public inspection in their entirety.

FOR FURTHER INFORMATION CONTACT: Bureau of Land Management, Michele Easley, Project Manager, 312 HWY 189 N, Kemmerer, Wyoming 83101. Ms. Easley may also be reached by telephone at (307) 828-4524, or by sending an electronic message to: Michele_Easley@blm.gov.

SUPPLEMENTARY INFORMATION: The project area is generally located within Townships 15 through 23 North, Ranges 111 through 113 West, 6th Principal Meridian, Lincoln, Sweetwater, and Uinta Counties, Wyoming. The project area is bisected by Interstate 80 through its southern third. It includes approximately 476,260 acres of mixed Federal, State, and private lands in Sweetwater, Lincoln, and Uinta counties. Approximately 230,400 acres (48 percent) are managed by the BLM; 31,665 acres are managed by the Bureau of Reclamation (7 percent); 13,505 are owned and managed by the State of Wyoming (3 percent), and approximately 200,690 acres (42 percent) are privately owned. The Kemmerer Field Office manages the Federal mineral estate underlying the BLM-administered lands within the project area.

The project proponents are EOG Resources and other operators (henceforth referred to as the Operators) within the Moxa Arch area. Since the issuance of the Expanded Moxa Arch EIS, drilling activities have been conducted that have led to the development of about 1,400 producing gas wells as of February 2005. At that time, the Operators submitted to the BLM a proposal to infill drill within the same approximately 476,260 acre project area analyzed in the Expanded Moxa Arch EIS. The Operators propose to develop over the long term approximately 1,860 additional wells.

The Operators' proposal to conduct infill drilling among the existing wells is based on the two zones, the core and the flank, described and illustrated in the Expanded Moxa Arch Natural Gas Development Project EIS and ROD (1997).

About 1,400 producing gas wells, with their attendant service roads and pipelines, are currently active in the project area. Because of the success rate of drilling activities conducted since the issuance of the 1997 Expanded Moxa Arch Area EIS, the Operators anticipate that infill drilling would facilitate the extraction of additional gas resources and extend production. The Operators propose to infill drill and develop approximately 1,860 additional wells at the rate of about 186 wells per year over a period of 10 years, or until the resource base is fully developed. Of these additional wells, approximately 1,226 will be drilled in the proven production or “core” area and 635 in the remaining “flank” area. The anticipated life of each producing well is expected to be about 40 years.

The Operators anticipate drilling infill wells to the Frontier and Dakota formations at varying densities ranging from 67 acres to 160 acres per aliquot section (4 to 10 additional wells/section) in the core area and 320 acres per well (2 additional wells/section) in the flank area. The proposed wells would be drilled during a 10-year period after project approval.

Approximately 75 percent of the new wells drilled south of the northern boundary of Township 20 North may produce “commingled” gas from both the Frontier and the Dakota formations via a common well bore. The use of commingled downholes generally limits overall surface disturbance by reducing the need to drill separate wells to distinct formations. The total number of wells drilled would depend largely on factors outside of the Operators' control, such as production success, engineering technology, economics, availability of commodity markets, and lease stipulations and restrictions.

Infrastructure required to support gas production would include electric power lines, roads, gas flow lines and pipelines, well pads, water injection and evaporation facilities, and gas treatment facilities. Gas would be transported through pipelines to centralized compression and treatment facilities. Additional compression may be required on transportation pipelines to transport produced gas. Limited well site compression may be necessary. Produced water would be trucked to approved evaporation pits or water injection wells.

Major issues at this time include potential impacts to: Air quality, semi-desert ecosystems and their dependent wildlife species (including antelope, sage grouse, and white-tailed prairie dog colonies and their associated species); vegetation, including noxious weeds; reclamation; and riparian habitat associated with the Black's Fork, Hams Fork, and Green River corridors. The EIS and its information may be used to amend the Kemmerer RMP. Alternatives identified at this time include the proposed action and the no action alternatives.

Alan L. Kesterke,
Associate State Director.

[FR Doc. 05-20198 Filed 10-6-05; 8:45 am]

BILLING CODE 4310-22-P